FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 18, 2020.

A. Federal Reserve Bank of New York (Ivan Hurwitz, Senior Vice President) 33 Liberty Street, New York, New York 10045-0001. Comments can also be sent electronically to Comments.applications@ny.frb.org:

1. Basswood Capital Management, LLC, on behalf of itself, as investment manager to the following funds: Basswood Opportunity Partners, LP, Basswood Financial Fund, LP, Basswood Financial Long Only Fund, LP, Basswood Opportunity Fund, Inc. and Basswood Financial Fund, Inc., and as investment adviser to certain managed accounts; Basswood Partners LLC, as general partner for certain funds; Matthew Lindenbaum and Bennett Lindenbaum, all of New York, New York; to acquire voting shares of Esquire Financial Holdings, Inc., and thereby indirectly acquire voting shares of Esquire Bank NA, both of Jericho, New York.

Board of Governors of the Federal Reserve System, November 30, 2020.
Michele Taylor Fennell,
Deputy Secretary of the Board.

[FR Doc. 2020-26622 Filed 12-2-20; 8:45 am]

BILLING CODE 6210-01-P